DEPARTMENT OF ENERGY

Federal Energy Regulatory Commission

Combined Notice of Filings

Take notice that the Commission has received the following Natural Gas Pipeline Rate and Refund Report filings:

Filings Instituting Proceedings

Docket Numbers: RP26-280-000.

Applicants: ANR Pipeline Company.

Description: 4(d) Rate Filing: ANR—Neg Rate Agmts Eff 1.1.26 to be effective 1/1/2026.

Filed Date: 12/4/25.

Accession Number: 20251204-5111.

Comment Date: 5 p.m. ET 12/16/25.

Docket Numbers: RP26-281-000.

Applicants: Rendezvous Pipeline Company, LLC.

Description: 4(d) Rate Filing: Normal filing 2026 to be effective 1/4/2026.

Filed Date: 12/4/25.

Accession Number: 20251204-5148.

Comment Date: 5 p.m. ET 12/16/25.

Docket Numbers: RP26-282-000.

Applicants: Discovery Gas Transmission LLC.

Description: 4(d) Rate Filing: GT&C Section 9.9—Cashout Disposition to be effective 1/4/2026.

Filed Date: 12/4/25.

Accession Number: 20251204-5162.

Comment Date: 5 p.m. ET 12/16/25.

Docket Numbers: RP26-283-000.

Applicants: Gillis Hub Pipeline, LLC.

Description: 4(d) Rate Filing: Filing of Negotiated Rate, IW Agreements 12.5.2025 to be effective 12/8/2025.

Filed Date: 12/5/25.

Accession Number: 20251205-5271.

Comment Date: 5 p.m. ET 12/17/25.

Docket Numbers: RP26-284-000.

Applicants: Transcontinental Gas Pipe Line Company, LLC.

Description: 4(d) Rate Filing: Rate Schedule S-2 Tracker Filing Eff 1/1/2026 to be effective 1/1/2026.

Filed Date: 12/8/25.

Accession Number: 20251208-5159.

Comment Date: 5 p.m. ET 12/22/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP26-270-001.

Applicants: Transcontinental Gas Pipe Line Company, LLC.

Description: Tariff Amendment: 2025 Interim Fuel Tracker Filing Amendment to be effective 1/1/2026.

Filed Date: 12/4/25.

Accession Number: 20251204-5115.

Comment Date: 5 p.m. ET 12/16/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 8, 2025.
Carlos D. Clay,
Deputy Secretary.

[FR Doc. 2025-22550 Filed 12-10-25; 8:45 am]

BILLING CODE 6717-01-P